DEPARTMENT OF JUSTICE

Notice of Lodging of Consent Decree Under the Clean Air Act, RCRA, CERCLA, and EPCRA

Under 28 CFR 50.7, notice is hereby given that on January 18, 2001, a Consent Decree in United States v. BP Exploration & Co., et al., Civil Action No. 2:96 CV 095, was lodged with the United States District Court for the Northern District of Indiana, Hammond Division.

In the Second Amended Complaint the United States sought civil penalties and injunctive relief against BP Exploration & Co., Amoco Oil Company, and Atlantic Richfield Company (hereinafter, “BP”), pursuant to Section 113(b) of the Clean Air Act (“CAA”), 42 U.S.C. 7413(b) (1983), amended by, 42 U.S.C. §7413(b) (Supp. 1991), the Resource Conservation and Recovery Act, (“RCRA”), 42 U.S.C. 6901 et seq.; the Comprehensive Environmental Response, Compensation and Liability Act (“CERCLA”), 42 U.S.C. 9603(a) and the Emergency Planning and Community Right to Know Act (“EPCRA”), 42 U.S.C. 11004(a) for alleged violations at BP's eight refineries located in Whiting, Indiana; Toledo, Ohio; Mandan, North Dakota; Salt Lake City, Utah; Texas City, Texas; Yorktown, Virginia; Cherry Point, Washington; and Carson, California.

Under the settlement, BP will implement innovative pollution control technologies to greatly reduce emissions of nitrogen oxides (“NOX”) and sulfur dioxide (“SO2”) from refinery process units and adopt facility-wide enhanced monitoring and fugitive emission control programs. In addition, BP will pay a civil penalty of $10 million. The States of Indiana, Ohio, Utah, and the Northwest Air Pollution Authority, will join in this settlement as signatories to the Consent Decree.

The Department of Justice will receive for a period of thirty (30) days from the date of this publication comments relating to the Consent Decree. Comments should be addressed to the Assistant Attorney General, Environment and Natural Resources Division, P.O. Box 7611, U.S. Department of Justice, Washington, DC 20044-7611, and should refer to United States v. BP Exploration & Co., et al., D.J. Ref. 90-5-2-1-07109.

The Consent Decree may be examined at the Office of the United States Attorney, 1001 Main Street, Suite A, Dyer, Indiana 46311 and at U.S. EPA Region 5, 77 West Jackson Blvd., Chicago, Illinois 60604. A copy of the Consent Decree may also be obtained by mail from the Consent Decree Library, P.O. Box 7611, U.S. Department of Justice, Washington, DC 20044-7611. In requesting a copy, please enclose a check in the amount of $41.00 (25 cents per page reproduction cost) payable to the Consent Decree Library.

Walker Smith,
Principal Deputy Chief, Environmental Enforcement Section, Environment and Natural Resources Division.

[FR Doc. 01-3270 Filed 2-07-01; 8:45 am]

BILLING CODE 4410-15-M